DEPARTMENT OF ENERGY

Federal Energy Regulatory Commission

[Project No. 13500-002]

Lock+™ Hydro Friends Fund XI, LLC; Notice of Preliminary Permit Application Accepted for Filing and Soliciting Comments, Motions To Intervene, and Competing Applications

On October 1, 2012, Lock+™ Hydro Friends Fund XI, LLC filed an application for a preliminary permit, pursuant to section 4(f) of the Federal Power Act (FPA), proposing to study the feasibility of the Lock and Dam No. 12 Project (project) to be located at the U.S. Army Corps of Engineers (Corps) Mississippi River Lock and Dam No. 12 on the Mississippi River, near Bellevue, Iowa. The sole purpose of a preliminary permit, if issued, is to grant the permit holder priority to file a license application during the permit term. A preliminary permit does not authorize the permit holder to perform any land-disturbing activities or otherwise enter upon lands or waters owned by others without the owners' express permission.

The proposed project would be integrated into the Corps' existing dam spillway and consist of the following: (1) A yet undetermined size concrete pad to be built just upstream of the spillway, supporting a frame module containing 10 turbines; (2) a 120-foot-long, 50-foot-deep frame module fitted with a trash rack and containing 10 low-head bulb turbines each having a capacity of 500 kilowatts (kW) for a total installed capacity of 5,000 kW; (3) a 200-foot-long, 120-foot-wide tailrace; (4) a yet undetermined number of draft tubes that would be incorporated into the spillway; (5) a switchyard constructed adjacent to the modular system; (6) a 1.3-mile-long, 36.7-kilovolt transmission line conveying the generated power to the local power grid; and (7) appurtenant facilities. The estimated annual generation of the Lock and Dam No. 12 Project would be 28,470 megawatt hours.

Applicant Contact: Mark R. Stover, Vice President of Corporate Affairs, Hydro Green Energy, LLC, 900 Oakmont Lane, Suite 301, Westmont, IL 60559; phone: (877) 556-6566 x 711.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13500-002) in the docket number field to access the document. For assistance, contact FERC Online Support.

Dated: November 26, 2012.
Kimberly D. Bose,
Secretary.

[FR Doc. 2012-29082 Filed 11-30-12; 8:45 am]

BILLING CODE 6717-01-P